DEPARTMENT OF DEFENSE

Department of the Army

Corps of Engineers

Intent To Preapre an Environmental Impact Statement for Denver Water's Moffat Collection System Project

AGENCY: U.S. Army Corps of Engineers, DoD.

ACTION: Notice of intent.

SUMMARY: The U.S. Army Corps of Engineers (COE) is preparing an Environmental Impact Statement (EIS) to analyze the direct, indirect and cumulative effects of a water supply project (Moffat Collection System Project) by the City and County of Denver, acting by and through its Board of Water Commissioners (Denver Water). The Moffat Collection System Project will provide a solution to four needs identified by Denver Water in its municipal water supply system: (1) A reliability problem associated with the Moffat Collection System (the norther portion of Denver Water's system); (2) a system-wide vulnerability problem; (3) a lack of operational flexibility in the entire system; and (4) an additional firm yield of 18,000 acre-feet to address near-term water supply demands. Denver Water has not selected a project but will be exploring alternatives through the National Environmental Policy Act (NEPA) process to result in a preferred alternative. Construction of the Moffat Collection System Project is expected to result in temporary and permanent impacts to jurisdictional waters of the United States, thereby requiring a Clean Water Act section 404 permit.

The COE has prepared a scoping document to familiarize other agencies, the public and interested organizations withe the preliminary project alternatives and potential environmental issues that may be involved. The scoping document includes a description of the problems that the Moffat Collection System Project must address, a preliminary list of project alternatives, and various environmental/resource issues that will be addressed in the EIS. Copies of the scoping document will be available at the public scoping meetings or can be requested by mail. The EIS will be prepared according to the COE's parocedures for implementing the National Environmental Policy Act (NEPA) of 1969, as amended, 42 U.S.C. 4332(2)(c), and consistent with the COE's policy to facilitate public understanding and review of agency proposals.

DATES: Scoping meetings will be held at three locations:

1. October 7, 2003, 7 to 9:30 p.m. at the Fairview High School Cafeteria, (address), Boulder, CO.

2. October 8, 2003, 7 to 9:30 p.m. at the Highlands Masonic Temple, 3550 Federal Boulevard, Denver, CO.

3. October 9, 2003, 7 to 9:30 p.m. at the Silver Creek Lodge, (address), Silver Creek, CO.

FOR FURTHER INFORMATION CONTACT: Questions regarding the proposed action and EIS should be addressed to Chandler Peter, Project Manager, U.S. Army Corps of Engineers, 2232 Dell Range Blvd., Suite 210, Cheyenne, WY 82009 or at (307) 772-2300.

SUPPLEMENTARY INFORMATION: Denver Water is responsible for providing reliable, high quality drinking water to over 1.2 million customers. Through Denver Water's Integrated Resources Plan (IRP), developed in 1997 and updated in 2002, and recent events, they identified four needs in the Moffat Collection System that have to be solved. These needs are: (1) Moffat Collection System reliability, (2) System vulnerability, (3) Lack of operational flexibility in the system, and (4) Providing additional firm yield of 18,000 acre-feet.

The Reliability Need: Existing water demands served by Denver Water's Moffat Collection System exceed available supplies during a drought, causing a water supply reliability problem. In a severe drought, even in a single severe dry year, the Moffat Treatment Plant—one of three treatment plants in Denver's system—is at a significant level of risk of running out of water.

The Vulnerability Need: Denver Water's collection system is vulnerable to manmade and natural disasters because 90 percent of available reservoir storage and 80 percent of available water supplies rely on the unimpeded operation of Strontia Springs Reservoir and other components of Denver's Water's South System.

The Flexibility Need: Denver Water's treated water transmission, distribution, and water collection systems are subject to failures and outages caused by routine maintenance, pipe failures, treatment plant problems, and a host of other unpredictable occurrences that are inherent in operating and maintaining a large municipal water supply system. These stresses to Denver Water's ability to meet its customers' water supply demands require a level of flexibility within system operations that is not presently available.

The Firm Yield Need: Denver Water's near-term water resource strategy and water service obligations that have occurred since the IRP was developed, has resulted in a need for 18,000 acre-feet of new near-term water supplies. This need was identified after first assuming successful implementation of a conservation program construction of a non-potable recycling project, and implementation of a system refinement program.

Denver Water has identified four preliminary alternatives that would address these needs: (1) Enlarge Gross Reservoir; (2) Build a new reservoir at Leyden Gulch; (3) Build a potable water recycling project; or (4) A combination of these alternatives. Additional alternatives will be considered during the NEPA process.

Scoping meetings will be held at three locations (see DATES) to describe the project needs, preliminary alternatives, the NEPA compliance process and to solicit input on the issues and alternatives to be evaluated and other related matters. Written comments will also be requested.

The COE has invited the U.S. Environmental Protection Agency, Federal Energy Regulatory Commission, and the Forest Service to be cooperating agencies in the formulation of the EIS.

Chandler J. Peter,
Project Manager, Regulatory Branch.

[FR Doc. 03-23733 Filed 9-16-03; 8:45 am]

BILLING CODE 3710-62-M